DEPARTMENT OF AGRICULTURE

Forest Service

Lolo National Forest; Revision of the Land Management Plan for the Lolo National Forest

AGENCY: Forest Service, Agriculture (USDA).

ACTION: Notice of intent to prepare an Assessment and Initiate Land Management Plan Revision for the Lolo National Forest.

SUMMARY: The Forest Service, U.S. Department of Agriculture, is initiating the Land Management Plan (Plan) revision process, pursuant to the 2012 Planning Rule and as directed by the National Forest Management Act, for the Lolo National Forest located in western Montana. This process will result in a revised Land Management Plan which will guide all resource management activities on the Lolo National Forest for approximately 15 years. This notice announces the initiation of the assessment phase, the beginning of plan development, and the preliminary stages of the plan revision process. The assessment will identify and consider relevant and readily accessible material about ecological, social, and economic conditions and trends in the planning area, including best available scientific information. Trends and conditions identified in the assessment will then help describe a need to change the existing plan and inform the revision of the Plan.

DATES: In the winter and spring of 2023, the public has been invited to engage and participate in the assessment phase of the revision process. Engagement opportunities are posted on the Lolo National Forest Plan Revision website, located at https://www.fs.usda.gov/goto/lolo/planrevision. The Lolo National Forest will conduct consultation with Tribes as part of the assessment phase of revision. Information will also be shared through electronic mailing lists, social media, and media outlets. If members of the public are interested in learning more, please visit the website listed above and select the link to subscribe to updates on the Lolo Plan Revision. The public can also sign up by sending an email to SM.FS.LNFRevision@usda.gov. The Forest Service will produce a draft assessment for public review and comment, expected around May 2023. The Forest Service will review and incorporate public comments and additional information from tribal consultation on the assessment and produce a final assessment to inform plan revision for the Lolo National Forest. The Forest Service may then initiate procedures pursuant to the National Environmental Policy Act (NEPA) to prepare a revised Land Management Plan.

ADDRESSES: For questions about Land Management Plan revision or comments on initiating the assessment phase of plan revision, please address mail to: Lolo National Forest Supervisor's Office, Attn: Amanda Milburn—Lolo Plan Revision, 24 Fort Missoula Rd., Missoula, MT 59804, or via email to SM.FS.LNFRrevision@usda.gov. All correspondence, including names and addresses, will be part of the public record. More information on the planning process can also be found on the Lolo Plan Revision website at https://www.fs.usda.gov/goto/lolo/planrevision.

FOR FURTHER INFORMATION CONTACT: Amanda Milburn, Plan Revision Team Leader, 406-438-6440.

Individuals who use telecommunication devices for the deaf and hard of hearing (TDD) may call the Federal Relay Service (FRS) at 1-800-877-8339, 24 hours a day, every day of the year, including holidays.

SUPPLEMENTARY INFORMATION: The National Forest Management Act (NFMA) of 1976 requires that the Forest Service develop a Land and Resource Management Plan, often called a Forest Plan, for every national forest. Forest Plans provide the strategic direction for management of forest resources and are amendable as conditions change over time. The Lolo Forest Plan was adopted in 1986. This notice announces the start of the first stage of the plan revision process, during which updated information from the public, Tribes, other government agencies, and non-governmental parties, will be compiled into an assessment. Information relevant to these reports typically includes the status and trends of ecological, social, and economic conditions within the planning area and across the broader landscape. Federal Regulation 36 CFR 219.6 requires the assessment of (1) Terrestrial ecosystems, aquatic ecosystems, and watersheds; (2) Air, soil, and water resources and quality; (3) System drivers, including dominant ecological processes, disturbance regimes, and stressors, such as natural succession, wildland fire, invasive species, and climate change, and the ability of terrestrial and aquatic ecosytems in the plan area to adapt to change; (4) Baseline assessment of carbon stocks; (5) Threatened, endangered, proposed, and candidate species, and potential species of conservation concern present in the plan area; (6) Social, cultural, and economic conditions; (7) Benefits people obtain from the National Forest System planning area (ecosystem services); (8) Multiple uses and their contributions to local, regional, and national economies; (9) Recreation settings, opportunities and access, and scenic character; (10); Renewable and nonrenewable energy and mineral resources; (11) Infrastructure, such as recreational facilities and transportation and utility corridors; (12) Areas of tribal importance; (13) Cultural and historic resources and uses; (14) Land status and ownership and access patterns; and (15) Existing designated areas located in the plan area including wilderness and wild and scenic rivers and potential need and opportunity for additional designated areas.

During this assessment phase, the Forest Service invites other government agencies, Tribes, non-governmental parties, and the public to share information about social, economic, and environmental conditions of the Lolo National Forest and the broader landscape. Existing information about conditions on the Lolo National Forest, supplemented with information gathered through public engagement and tribal consultation, will be integrated into final resource assessments. The Forest Service will host public outreach forums to share progress and gather additional information.

Responsible Official: The responsible official for the revision of the land and resource management plan for the Lolo National Forest is Carolyn Upton, Forest Supervisor, Lolo National Forest Supervisor's Office, 24 Fort Missoula Road, Missoula, MT 59804, phone 406-329-3750.

Dated: March 10, 2023.
Troy Heithecker,
Associate Deputy Chief, National Forest System.

[FR Doc. 2023-05352 Filed 3-15-23; 8:45 am]

BILLING CODE 3411-15-P